DEPARTMENT OF THE INTERIOR

National Park Service

[NPS-WASO-NAGPRA-NPS0034102; PPWOCRADN0-PCU00RP14.R50000]

Notice of Intent To Repatriate Cultural Items: American Museum of Natural History, New York, NY

AGENCY: National Park Service, Interior.

ACTION: Notice.

SUMMARY: The American Museum of Natural History, in consultation with the appropriate Indian Tribes or Native Hawaiian organizations, has determined that the cultural items listed in this notice meet the definition of sacred objects. Lineal descendants or representatives of any Indian Tribe or Native Hawaiian organization not identified in this notice that wish to claim these cultural items should submit a written request to the American Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the American Museum of Natural History at the address in this notice by July 27, 2022.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3005, of the intent to repatriate cultural items under the control of the American Museum of Natural History, New York, NY, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1912, ethnologist Alanson B. Skinner purchased an insignia of peace officer and a peace pipe from John Keshena during a museum expedition in Wisconsin. The American Museum of Natural History accessioned the two items that same year. The insignia of peace officer is over two feet long and consists of thirty-one circular German silver ornaments and one heart-shaped silver ornament on harness leather embellished with small sections of fur and strips of red and orange cloth. At the bottom of the insignia are four metal bell stick pin ornaments inscribed with “Dr. Bell's Pine Tar Honey Cures Coughs,” remnants from an old respiratory cure-all manufactured by the E.E. Southerland Medicine Company in Paducah, Kentucky circa 1894. The peace pipe consists of two parts, including a red painted stone bowl (possibly made of catlinite) with tobacco and paper remnants attached to a wooden stem that is more than two feet long and coated in red pigment.

Ms. Kate Keshena contacted the American Museum of Natural History and provided genealogical records indicating that she descends from Chief Keshena, a 19th century Menominee leader, who was the last peace-keeping chief of the Menominee Indian Tribe of Wisconsin. Chief Keshena was the last known chief to have used the insignia and pipe. Skinner purchased the two items from John Keshena, Chief Keshena's son.

Determinations Made by the American Museum of Natural History

Officials of the American Museum of Natural History have determined that:

• Pursuant to 25 U.S.C. 3001(3)(C), the two cultural items described above are specific ceremonial objects needed by traditional Native American religious leaders for the practice of traditional Native American religions by their present-day adherents.

• Pursuant to 43 CFR 10.14(b), Ms. Kate Keshena is a lineal descendant of Chief Keshena based on genealogical records.

Additional Requestors and Disposition

Lineal descendants or representatives of any Indian Tribe or Native Hawaiian organization not identified in this notice that wish to claim these cultural items should submit a written request with information in support of the claim to Nell Murphy, American Museum of Natural History, Central Park West at 79th Street, New York, NY 10024, telephone (212) 769-5837, email nmurphy@amnh.org, by July 27, 2022. After that date, if no additional claimants have come forward, transfer of control of the sacred objects to Ms. Kate Keshena may proceed.

The American Museum of Natural History is responsible for notifying Ms. Kate Keshena that this notice has been published.

Dated: June 10, 2022.
Melanie O'Brien,
Manager, National NAGPRA Program.

[FR Doc. 2022-13618 Filed 6-24-22; 8:45 am]

BILLING CODE 4312-52-P